DEPARTMENT OF LABOR

Office of the Secretary

Submission for OMB Review; Comment Request

July 31, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (202) 693-4129 or E-Mail to King-Darrin@dol.gov.

Comments should be sent to Office of Information and Regulatory Affairs, Attn: Stuart Shapiro, OMB Desk OSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Gear Certification—29 CFR Part 1919.

OMB Number: 1218-0003.

Frequency: On occasion; Annually; and Quadrennially.

Affected Public: Business or other for-profit; Not-for-profit institutions; Federal Government; and State, Local or Tribal Government.

Total: 76.

Number of Respondents: 80.

Form/activity | Annual responses | Frequency | Average response time (hours) | Burden hours
OSHA-70 | 80 | On occasion | .75 | 60
OSHA-71 | 0 | Annually | 0 | 0
OSHA-72 | 0 | Quadrennial | 0 | 0
Record keeping | 260 | Annually | .06 | 16
Total | 340 |  |  | 76

Total Annualized capital/startup costs: $0.

Total Annualized costs (operating/maintaining systems or purchasing services): $692,782.

Description: The information collection requirements contained in the Gear Certification Standard (29 CFR part 1919) address the burden hours associated with gathering information to complete three forms, the OSHA 70, OSHA 71, and OSHA 72, that are required by OSHA's maritime employment regulations. These maritime regulations require employers to have an OSHA 71 Form issued for equipment found to be in a safe condition and the OSHA 72 Form issued for equipment that is unsafe. These forms are issued by third parties who have applied to OSHA, on the OSHA 70 Form, for accreditation to certificate gear used in maritime employment.

The OSHA 70 Form is used by applicants seeking accreditation from OSHA to be able to test or examine certain equipment and material handling devices, as required under the maritime regulations, part 1917 (Marine Terminals), and part 1918 (Longshoring). The OSHA 70 Form application for accreditation provides an easy means for companies to apply for accreditation.

The OSHA 71 Form is required to be issued by those accredited by OSHA to employers in the maritime industry to make known that certain equipment and material handling devices are safe to use or operate. The OSHA 72 Form is required to be issued by those accredited by OSHA to employers in the maritime industry when the equipment or material handing device is found to be unsafe to use.

The collection of the information needed to complete these forms is necessary to provide an effective and efficient means of enabling employers and employees to determine if cargo gear, equipment and/or other material handling devices are safe to use.

Type of Review: Extension of a currently approved collection.

Agency: Occupational Safety and Health Administration (OSHA).

Title: Concrete and Masonry Construction.

OMB Number: 1218-0095.

Frequency: On occasion.

Affected Public: Business or other for-profit.

Total Burden Hours: 22,400 hours.

Number of Respondents: 280,000.

Annual Responses: 280,000.

Estimated Time Per Respondent: 0.

Total Annualized capital/startup costs: $0.

Total Annualized costs (operating/maintaining systems or purchasing services): $0.

Description: The concrete and masonry construction standard (§ 1926.703(a)(2)) requires that employers retain drawings or plans for cast-in-place concrete construction, including all revisions, for the jack layout, formwork (including shoring equipment), working decks, and scaffolds at the jobsite.

Type of Review: Revision of a currently approved collection.

Agency: Occupational Safety and Health Administration (OSHA).

Title: Design of Cave-in Protection Systems.

OMB Number: 1218-0137.

Frequency: On occasion.

Affected Public: Business or other for-profit.

Total Burden Hours: 20,011.

Number of Respondents: 10,000.

Annual Reponses: 10,000.

Estimated Time per Respondent: 11 hours.

Total Annualized capital/startup costs: $0.

Total Annualized costs (operating/maintaining systems or purchasing services): $306,500.

Description: In OSHA's construction standard for excavations, 29 CFR 1926, Subpart P, employers are required to protect employees from cave-in hazards by using one of several protective systems. The information required to be collected by this standard is used by employers or engineers to design proper cave-in systems that will support the walls of the excavation or trench.

Type of Review: Extension of a currently approved collection.

Agency: Occupational Safety and Health Administration (OSHA).

Title: Course Evaluation.

OMB Number: 1218-0173.

Frequency: On occasion.

Affected Public: Individuals or households; Business or other for-profit; Not-for-profit institutions; Federal Government; State, Local or Tribal Government.

Total Burden Hours: 2,716.

Number of Respondents: 16,300.

Annual Responses: 16,300.

Estimated Time per Respondent: 10 minutes.

Total Annualized capital/startup costs: $0.

Total Annualized costs (operating/maintaining systems or purchasing services): $0.

Description: Information collected on the Course Evaluation Form from the students completing OSHA Training Institute and Education Center training courses is used to evaluate course usefulness, effectiveness, quality, and content and to make course improvements.

Type of Review: Extension of a currently approved collection.

Agency: Occupational Safety and Health Administration (OSHA).

Title: Methlene Chloride—1910.1052.

OMB Number: 1218-0179.

Frequency: On occasion.

Affected Public: Business or other for-profit; Federal Government; and State, Local or Tribal Government.

Total Burden Hours: 101,816.

Number of Respondents: 95,921.

Requirement | Annual responses | Average response time (hours) | Burden hours
Exposure Monitoring (1910.1052(d))
Initial Determination (1910.1052(d)(2)) | 3,829 | .33 | 1,264
Periodic Monitoring (1910.1052(d)(3)) | 51,114 | .33 | 16,868
Additional Monitoring (1910.1052(d)(4)) | 25,948 | .33 | 8,563
Employee Notification of Monitoring Results (1910.1052(d) (5)) | 80,891 | .08 | 6,471
Medical Surveillance (1910.1052(j))
Initial Surveillance (1910.1052(j)(4)(i)) | 3,570 | 1 | 3,570
Periodic Medical Surveillance (1910.1052(j)(4)(ii)) | 47,592 | 1 | 47,592
Information to Physician or Other Health Care Professional—Initial Medical Examinations (1910.1052(j)(8)) | 3,570 | .25 | 893
Information to Physician or Other Health Care Professional—Periodic Medical Examinations (1910.1052(j)(8)) | 47,592 | .08 | 3,807
Information to Physician or Other Health Care Professional—Medical Removal Protection Examinations (1910.1052(j)(8)) | 474 | .08 | 38
Medical Removal Protection—Second Additional Examination (1910.1052(j)(11)) | 474 | 1 | 474
Recordkeeping (1910.1052(m))
Exposure Measurements (1910.1052(m)(2)) | 86,635 | .08 | 6,931
Medical Surveillance (1910.1052(m)(3)) | 51,636 | .08 | 4,131
Availability—Employee Access | 13,827 | .08 | 1,106
Availability—Federal Access | 1,343 | .08 | 107
Transfer of Records (1910.1052(m)(5)) | 1 1 | 1
Total | 418,496 |  | 101,816

Total Annualized capital/startup costs: $0.

Total Annualized costs (operating/maintaining systems or purchasing services): $23,700,000.

Description: The purpose of this Standard and the associated information collection requirements is to provide protection for employees from the adverse health effects associated with occupational exposure to methylene chloride. Employers are required to monitor employee exposure, reduce employee exposures to within the permissible exposure limits, provide medical examinations, training and other information.

Type of Review: Extension of a currently approved collection.

Agency: Occupational Safety and Health Administration (OSHA).

Title: Cadmium in Construction.

OMB Number: 1218-0186.

Frequency: On occasion.

Number of Respondents: 10,000.

Requirement | Annual response | Average response time | Burden hours
Exposure Monitoring (1926.1127(d))
Initial Monitoring | 10,000 | .25 | 2,500
Reporting Exposures Below the Action Level | 189,000 | .08 | 15,120
Periodic Monitoring | 6,999 | .5 | 3,500
Additional Monitoring | 500 | .5 | 250
Employee Notification of Monitoring Results | 21,500 | .08 | 1,720
Compliance Program (1926.1127(f)(5)) | 1,000 | .5 | 500
Medical Surveillance (1926.1127(l))
Initial Examinations | 3,750 | 1.5 | 5,625
Biological Monitoring | 14,500 | .25 | 3,625
Information Provided to Physician and Test | 11,000 | .08 | 880
Physician's Written Opinion | 11,000 | .08 | 880
Employee Information and Training (1926.1127(m)(4)) | 3,500 | 1 | 3,500
Recordkeeping (1926.1127(n))
Training Records | 70,000 | .03 | 2,100
Availability, Federal Access | 140 | .08 | 11
Availability, Employee Access | 7,000 | .08 | 560
Total | 349,889 |  | 40,771

Total Annualized capital/startup costs: $0.

Total Annualized costs (operating/maintaining systems or purchasing services): $2,237,460.

Description: The Cadmium standard and its information collection requirements provide protection for employees from the adverse health effects associated with occupational exposure to Cadmium. The Standard requires that employers establish a compliance program, including exposure monitoring and medical records. These records are used by employees, physicians, employers and OSHA to determine the effectiveness of the employers' compliance efforts. The standard also requires that OSHA have access to various records to ensure that employers are complying with the disclosure provisions.

Type of Review: Extension of a currently approved collection.

Agency: Occupational Safety and Health Administration (OSHA).

Title: Grain Handling Facilities—29 CFR 1910.272.

OMB Number: 1218-0206.

Frequency: On occasion; Monthly; and Annually.

Affected Public: Business or other for-profit; Not-for-profit institutions; Federal Government; and State, Local or Tribal Government.

Number of Respondents: 23,770.

Requirement | Annual responses | Average response time | Burden hours
Emergency Action Plan—1910.272(d), Housekeeping Program—1910.272(j), and Procedures for Tags and Locks—1910.272(m)(4) | 486 | 3 | 1,458
Hot Work Permit—1910.272(f)(1) | 475,400 | .08 | 38,032
Permit for Entering Bins, Silos, or Tanks, Issuing Permits—1910.272(f)(1)(i) | 13,200 | .08 | 1,056
Permit for Entering Bins, Silos, or Tanks, Affixing Tag—1910.272(f)(1)(i) | 52,800 | .03 | 1,584
Deenergization of Equipment, Using Permits—1910.272(g)(1)(ii) | 79,500 | .08 | 6,360
Deenergization of Equipment, Affixing Tags—1910.272(g)(1)(ii) | 79,500 | .03 | 2,385
Preventive Maintenance Inspections/Certification Record, Bulk Raw Grain Dryers—1910.272(m) | 167,700 | .08 | 13,416
Preventive Maintenance Inspections/Certification Record, Grain Stream Processing Equipment—1910.272(m) | 368,940 | .08 | 29,515
Preventive Maintenance Inspections/Certification Record, Dust Collection—1910.272(m) | 285,240 | .08 | 22,819
Preventive Maintenance Inspections/Certification Record, Bucket Elevators—1910.272(m) | 251,400 | .08 | 20,112
Total | 1,774,166 |  | 136,737
Total Annualized capital/startup costs: $0.

Total Annualized costs (operating/maintaining systems or purchasing services): $0.

Description: Paragraph (d) of 29 CFR 1910.272 (the standard) requires the employer to develop and implement an emergency action plan so that employees will be aware of the appropriate actions to take in the event of an emergency.

Paragraph (e)(1) requires that employers provide training to employees at least annually and when changes in job assignment will expose them to new hazards.

Paragraph (f)(1) requires the employer to issue a permit for all hot work. Under paragraph (f)(2) the permit shall certify that the requirements contained in 1910.252(a) have been implemented prior to beginning the hot work operations and shall be kept on file until completion of the hot work operation.

Paragraph (g)(1)(i) requires the employer to issue a permit for entering bins, silos, or tanks unless the employer or the employer's representative is present during the entire operation. The permit shall certify that the precautions contained in paragraph (g) have been implemented prior to employees entering bins, silos or tanks and shall be kept on file until completion of the entry operations. Paragraph (m)(4) requires the employer to implement procedures for the use of tags and locks which will prevent the inadvertent application of energy or motion to equipment being repaired, serviced, or adjusted.

Paragraphs (i)(1) and (i)(2) require the employer to inform contractors performing work at the grain handling facility of known potential fire and explosion hazards related to the contractor's work and work area and to explain to the contractor the applicable provisions of the emergency action plan.

Paragraph (j)(1) requires the employer to develop and implement a written housekeeping program that establishes the frequency and method(s) determined best to reduce accumulations of fugitive grain dust on ledges, floors, equipment, and other exposed surfaces.

The purpose of the housekeeping program is to require employers to have a planned course of action for the control and reduction of dust in grain handling facilities reducing the fuel available in a grain facility. The housekeeping program must specify in writing the frequency that housekeeping will be performed and the dust control methods that the employer believes will best reduce dust accumulations in the facility.

Under paragraph (m)(1), the employer is required to implement preventive maintenance procedures consisting of regularly scheduled inspections of at least the mechanical and safety control equipment associated with dryers, grain stream processing equipment, dust collection equipment including filter collectors, and bucket elevators. Paragraph (m)(3) requires a certification be maintained of each inspection.

Type of Review: Extension of a currently approved collection.

Agency: Occupational Safety and Health Administration (OSHA).

Title: Welding, Cutting, and Brazing “ 29 CFR 1910, Subpart Q.

OMB Number: 1218-0207.

Frequency: Semi-annually.

Affected Public: Business or other for-profit; Not-for-profit institutions; Federal Government; and State, Local or Tribal Government.

Total Burden Hours: 8,119.

Number of Respondents: 25,373.

Annual Responses: 101,492.

Estimated Time per Respondent: Approximately 7 minutes to perform an inspection and generate an inspection certification record; approximately 3 minutes to maintain and disclose a certification record.

Total Annualized capital/startup costs: $0.

Total Annualized costs (operating/maintaining systems or purchasing services): $0.

Description: Section 1910.255(e) of the Welding, Cutting and Brazing Standard requires employers to inspect resistance welding equipment periodically. A certification record is to be generated and maintained which includes the date of the inspection, the signature of the person who performed the inspection and the serial number, or other identifier, for the equipment inspected. The record shall be made available to an OSHA inspector upon request. The maintenance inspection ensures that welding equipment are in safe operating condition while the maintenance record provides evidence to employees and Agency compliance officers that employers performed the required inspections.

Type of Review: Extension of a currently approved collection.

Agency: Occupational Safety and Health Administration (OSHA).

Title: Voluntary Protection Programs (VPP) Application Information.

OMB Number: 1218-0239.

Frequency: On occasion, 1 time and 1 time every 3 years.

Affected Public: Business or other for-profit; Not-for-profit institutions; Individuals or households; Federal Government; and State, Local or Tribal Government.

Number of Respondents: 957.

Information collection | Annual responses | Frequency of response | Estimated annual burden hours | Burden hours
VPP Application | 171 | 1 time | 200 | 34,200
Annual Evaluation | 711 | Annually | 20 | 14,220
VPP Volunteers, General Eligibility Information Sheet | 75 | Every 3 years | .13 |
VPP Volunteers, Waiver of Claims Against the Government | 75 | Every 3 years | -0- | -0-
VPP Volunteers, Department of Labor Request for Name Check (DL-68) | 75 | Every 3 years | .17 | 13
Total | 1,107 |  |  | 48,433

Total Annualized capital/startup costs: $0.

Total Annualized costs (operating/maintaining systems or purchasing services): $0.

Description: The information collection is necessary to determine if the applicant has a safety and health program that should qualify for participation in one of OSHA's Voluntary Protection Programs.

Ira L. Mills,
Departmental Clearance Officer.

[FR Doc. 01-20719 Filed 8-16-01; 8:45 am]

BILLING CODE 4510-26-P